DEPARTMENT OF JUSTICE

[OMB Number 1121-0111]

Agency Information Collection Activities; Proposed eCollection eComments Requested; National Crime Victimization Survey (NCVS)

AGENCY: Bureau of Justice Statistics, Department of Justice.

ACTION: 30-Day notice.

SUMMARY: The Office of Justice Programs, Bureau of Justice Statistics, Department of Justice (DOJ), will be submitting the following information collection request to the Office of Management and Budget (OMB) for review and approval in accordance with the Paperwork Reduction Act of 1995. The proposed information collection was previously published in the Federal Register on September 13, 2023, allowing a 60-day comment period.

DATES: Comments are encouraged and will be accepted for 30 days until October 19, 2023.

FOR FURTHER INFORMATION CONTACT: If you have comments especially on the estimated public burden or associated response time, suggestions, or need a copy of the proposed information collection instrument with instructions or additional information, please contact: Jennifer Truman, Statistician, Bureau of Justice Statistics, 810 Seventh Street NW, Washington, DC 20531 (email: Jennifer.Truman@usdoj.gov; telephone: 202-307-0765).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1121-0111. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of this information collection:

1. Type of Information Collection: Revision of a currently approved collection.

2. Title of the Form/Collection: National Crime Victimization Survey.

3. Agency form number, if any, and the applicable component of the Department of Justice sponsoring the collection: The form numbers for the questionnaire are the NCVS-1 and NCVS-2. The applicable component within the Department of Justice is the Bureau of Justice Statistics, in the Office of Justice Programs.

4. Affected public who will be asked or required to respond, as well as a brief abstract: Persons 12 years or older living in sampled households located throughout the United States will be asked to respond. Abstract: The National Crime Victimization Survey (NCVS) provides national data on the level and change of criminal victimization both reported and not reported to police in the United States. The 2024 NCVS data collection will be a split sample design with the new and current instrument in order to phase-in the new NCVS instrument. The new NCVS instrument improves measurement of victimization and incident characteristics and includes two new periodic modules on police performance and community safety.

5. Obligation to Respond: Voluntary.

6. Total Estimated Number of Respondents: 182,504.

7. Estimated Time per Respondent: 25 minutes to complete the current NCVS instrument. 32 minutes to complete the new NCVS instrument. It will take the average non-interviewed respondent (e.g., nonrespondent) an estimated 7 minutes to respond; the average follow-up interview is estimated at 15 minutes; and the average follow-up for a non-interview is estimated at 1 minute.

8. Frequency: Annual.

9. Total Estimated Annual Time Burden: 124,888 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: September 14, 2023.
Darwin Arceo,
Department Clearance Officer for PRA, U.S. Department of Justice.

[FR Doc. 2023-20269 Filed 9-18-23; 8:45 am]

BILLING CODE 4410-18-P